ENVIRONMENTAL PROTECTION AGENCY

[EPA-HQ-OAR-2023-0492; FRL 12479-01-OAR]

Transportation and Climate Division (TCD) Grant Program Reporting Templates: Supplemental Project Application Template and Project Reporting Templates for Diesel Emission Reduction Act (DERA), Clean School Bus (CSB), Clean Heavy Duty (CHD), and Clean Ports Grant Programs; EPA ICR No. 2793.02 OMB Control No. 2060-0754

AGENCY: Environmental Protection Agency (EPA).

ACTION: Notice.

SUMMARY: The Environmental Protection Agency (EPA) is planning to submit a revised information collection request (ICR), “Transportation and Climate Division (TCD) Grant Programs ICR” (EPA ICR No. 2793.02, OMB Control No. 2060-0754) to the Office of Management and Budget (OMB) for review and approval in accordance with the Paperwork Reduction Act. Before doing so, EPA is soliciting public comments on specific aspects of the proposed information collection as described below. This is a revision of ICR No. 2793.01, which is currently approved through April 30, 2027. An Agency may not conduct or sponsor and a person is not required to respond to a collection of information unless it displays a currently valid OMB control number.

DATES: Comments must be submitted on or before March 3, 2025.

ADDRESSES: Submit your comments, referencing Docket ID No. EPA-HQ-OAR-2023-0492, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Timothy Thomas, Office of Transportation and Air Quality, (6406A), Environmental Protection Agency, 1200 Pennsylvania Ave. NW, Washington, DC 20460; telephone number: 734-214-4465; fax number: 202-343-2803; email address: thomas.tim.l@epa.gov.

SUPPLEMENTARY INFORMATION: This is a request for approval of a revised collection. An agency may not conduct or sponsor, and a person is not required to respond to, a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The ICR package will be submitted to OMB for review and approval.

Abstract: This supporting statement is for a revision to an existing Information Collection Request (ICR) for four mobile source related grant programs administered by the Transportation and Climate Division (TCD), within Environmental Protection Agency's (EPA) Office of Transportation and Air Quality (OTAQ). These four programs include: Diesel Emission Reduction Act (DERA) Grant Program, Clean School Bus (CSB) Grant Program, Clean Heavy-Duty Vehicles (CHDV) Grant Program, and Clean Ports Grant Program.

The EPA currently uses ICR No. 2060-0754 to collect information for most major elements of grants administration for these programs, but to reflect the final program design and to further ease the burden for applicants, awardees, and Agency staff, the Agency needs to update this ICR to be able to use improved versions of previously approved instruments and collect information via 3 new reporting instruments to reflect final program design. This ICR revision aims to enhance project reporting instruments to ensure that the project reporting templates align with the final program design and requirements and incorporate user feedback received during the application period for the CHDV and Clean Ports Grant Programs.

TCD uses approved procedures and forms to collect necessary information to operate its grant programs and has been providing grants under DERA since 2008. EPA launched the 2024 Clean Port Program in late winter 2024, the 2024 Clean Heavy-Duty Vehicles Program in early spring 2024, and the 2024 DERA grant program in summer 2024, and is overseeing the 2023 Clean School Bus Grantees, who began reporting in mid-2024.

While these programs each have unique statutory requirements, there are key aspects that unite them as mobile source emissions reduction efforts, and by combining them as a cohort of programs under one ICR, EPA aims to enrich data quality across our programs and to ease burden on applicants and awardees considering applying for multiple programs and agency staff overseeing multiple programs. Additionally, collecting data via these program-specific, fillable data templates will enhance the Agency's oversight of these projects as directed by Congress. Further, doing so will also provide critical real-world performance data that the Agency would not otherwise be able to procure, which can inform future research and policy decisions related to OTAQ's mission to protect human health and the environment by reducing air pollution and greenhouse gas emissions from mobile sources and advancing clean fuels and technology.

Respondents/affected entities: Entities potentially affected by this action are those interested in applying for grants under EPA's CSB, DERA, Clean Heavy Duty, and Clean Ports programs and include but are not limited to the following NAICS (North American Industry Classification System) codes: 23 Construction; 482 Rail Transportation; 483 Water Transportation; 484 Truck Transportation; 485 Transit and Ground Passenger Transportation; 4854 School and Employee Bus Transportation; 48831 Port and Harbor Operations; 61111 Elementary and Secondary Schools; 61131 Colleges, Universities, and Professional Schools; 9211 Executive, Legislative, and Other Government Support; and 9221 Justice, Public Order, and Safety Activities.

Respondent's obligation to respond: Mandatory for grant recipients.

Estimated number of respondents: 623 DERA, 267 CSB, 70 CHDV, and 55 Clean Ports Program respondents annually.

Frequency of response: Up to 4 annual responses per year the grant is active.

Total estimated burden: 9,108 hours per year; 27,323 hours over ICR Period. Burden is defined at 5 CFR 1320.03(b).

Total estimated cost: $552,072 per year; $1,656,217 over ICR Period which includes $0 annualized capital or operation & maintenance costs.

Changes in the estimates: This is revision results in a decrease of 38% of the original estimated temporal burden and 33% reduction in the original estimated cost burden.

Michael Moltzen,
Acting Director, Transportation and Climate Division, Office of Air and Radiation.

[FR Doc. 2024-31491 Filed 12-31-24; 8:45 am]

BILLING CODE 6560-50-P